DEPARTMENT OF ENERGY

Federal Energy Regulatory Commission

[Project No. 1889-085, Project No. 2485-071]

FirstLight MA Hydro LLC; Northfield Mountain LLC; Notice of Reasonable Period of Time for Water Quality Certification Application

On April 22, 2024, the Massachusetts Department of Environmental Protection (Massachusetts DEP) filed with the Federal Energy Regulatory Commission (Commission) notice that it received complete requests for Clean Water Act section 401(a)(1) water quality certifications from FirstLight MA Hydro LLC and Northfield Mountain LLC in conjunction with the above captioned projects, on April 22, 2024. Pursuant to section 5.23(b) of the Commission's regulations,¹ we hereby notify Massachusetts DEP of the following:

¹ 18 CFR 5.23(b).

Date of Receipt of the Certification Request: April 22, 2024.

Reasonable Period of Time to Act on the Certification Request: One year, April 22, 2025.

If Massachusetts DEP fails or refuses to act on the water quality certification requests on or before the above date, then the certifying authority is deemed waived pursuant to section 401(a)(1) of the Clean Water Act, 33 U.S.C. 1341(a)(1).

Dated: April 30, 2024.
Debbie-Anne A. Reese,
Acting Secretary.

[FR Doc. 2024-09832 Filed 5-6-24; 8:45 am]

BILLING CODE 6717-01-P